FEDERAL COMMUNICATIONS COMMISSION

Notice of Public Information Collection(s) Being Reviewed by the Federal Communications Commission for Extension Under Delegated Authority, Comments Requested

March 20, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments May 28, 2002. If you anticipate that you will be submitting comments, but find it difficult to do so within the period of time allowed by this notice, you should advise the contact listed below as soon as possible.

ADDRESSES: Direct all comments to Judy Boley Herman, Federal Communications Commission, 445 12th Street, SW, Room 1-C804, Washington, DC 20554 or via the internet to jbherman@fcc.gov.

FOR FURTHER INFORMATION CONTACT: For additional information or copies of the information collections contact Judy Boley Herman at 202-418-0214 or via the internet at jbherman@fcc.gov.

SUPPLEMENTARY INFORMATION: OMB Control No.: 3060-1005.

Title: Numbering Resource Optimization—Phase 3.

Form No.: N/A.

Type of Review: Extension of a currently approved collection.

Respondents: Business or other for profit, state, local, or tribal government.

Number of Respondents: 53.

Estimated Time Per Response: 63.77 hours (average hours per response).

Total Annual Burden: 3,380 hours.

Annual Reporting and Recordkeeping Cost Burden: $12,000.

Frequency of Response: On occasion reporting requirement, third party disclosure requirement.

Needs and Uses: In the Third Report and Order and Second Order on Reconsideration in CC Docket No. 99-200, the Commission continued its efforts to maximize the efficiency with which numbering resources in the North American Number Plan (NANP) are utilized. In order for price cap LECs to qualify for exogenous adjustment to access charges established under the federal cost recovery mechanism, they must demonstrate that pooling results in a net cost increase rather than a cost reduction. Applications to state commissions from carriers must demonstrate that certain requirements are met before states may grant use of the safety valve mechanism. State commissions seeking to implement service-specific and/or technology-specific area code overlays, must request delegated authority to do so.

The Commission received emergency (6 month) approval under the emergency processing procedure on 3/12/02. This notice is being published in the Federal Register to start a 60-day comment period under the Paperwork Reduction Act in order to obtain a full three-year approval.

OMB Control No.: 3060-0084.

Title: Ownership Report for Noncommercial Educational Broadcast Station.

Form No.: FCC Form 323-E.

Type of Review: Extension of a currently approved collection.

Respondents: Not-for-profit institutions.

Number of Respondents: 2,636.

Estimated Time Per Response: 1-3 hours.

Total Annual Burden: 2,636 hours.

Annual Reporting and Recordkeeping Cost Burden: $1,054,400.

Frequency of Response: On occasion, biennial and other reporting requirements.

Needs and Uses: FCC Form 323-E is filed by licensees/permittees of noncommercial FM and TV broadcast stations when the original construction permit is granted, on the date it applies for a station license, in conjunction with the station's renewal application and every two years thereafter. The data are used by FCC staff to determine if licensees/permittees are in compliance with Sections 308 and 310 of the Communications Act, as amended, and the Commission's ownership disclosure requirements.

Federal Communications Commission.
William F. Caton,
Acting Secretary.

[FR Doc. 02-7406 Filed 3-27-02; 8:45 am]

BILLING CODE 6712-01-P